DEPARTMENT OF DEFENSE

GENERAL SERVICES ADMINISTRATION

NATIONAL AERONAUTICS AND SPACE ADMINISTRATION

[OMB Control No. 9000-0018; Docket No. 2020-0053; Sequence No. 18]

Submission for OMB Review; Federal Acquisition Regulation Part 3: Improper Business Practices and Personal Conflicts of Interest

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and extension of a previously approved information collection requirements regarding improper business practices and personal conflicts of interest.

DATES: Submit comments on or before March 8, 2021.

ADDRESSES: Written comments and recommendations for this information collection should be sent within 30 days of publication of this notice to www.reginfo.gov/public/do/PRAMain. Find this particular information collection by selecting “Currently under Review—Open for Public Comments” or by using the search function. Additionally, submit a copy to GSA through https://www.regulations.gov and follow the instructions on the site. This website provides the ability to type short comments directly into the comment field or attach a file for lengthier comments.

Instructions: All items submitted must cite “OMB Control No. 9000-0018, Federal Acquisition Regulation Part 3: Improper Business Practices and Personal Conflicts of Interest.” Comments received generally will be posted without change to https://www.regulations.gov, including any personal and/or business confidential information provided. To confirm receipt of your comment(s), please check https://www.regulations.gov approximately two-to- three days after submission to verify posting. If there are difficulties submitting comments, contact the GSA Regulatory Secretariat Division at 202-501-4755 or GSARegSec@gsa.gov.

FOR FURTHER INFORMATION CONTACT: Jennifer Hawes, Procurement Analyst, at telephone 202-969-7386, or jennifer.hawes@gsa.gov.

SUPPLEMENTARY INFORMATION:

A. OMB Control Number, Title, and any Associated Form(s)

9000-0018, Federal Acquisition Regulation Part 3: Improper Business Practices and Personal Conflicts of Interest.

B. Need and Uses

DoD, GSA, and NASA are combining OMB Control Nos. for the Federal Acquisition Regulation (FAR) by FAR part. This consolidation is expected to improve industry's ability to easily and efficiently identify burdens associated with a given FAR part. The review of the information collections by FAR part allows improved oversight to ensure there is no redundant or unaccounted for burden placed on industry. Lastly, combining information collections in a given FAR part is also expected to reduce the administrative burden associated with processing multiple information collections.

This justification supports the revision and extension of OMB Control No. 9000-0018 and combines it with the previously approved information collections under OMB Control No. 9000-0091, with the new title “Federal Acquisition Regulation Part 3: Improper Business Practices and Personal Conflicts of Interest.” Upon approval of this consolidated information collection, OMB Control No. 9000-0091 will be discontinued. The burden requirements previously approved under the discontinued number will be covered under OMB Control No. 9000-0018.

This clearance covers the information collection that offerors or contractors must submit to comply with the following requirements in FAR Part 3:

• 52.203-2, Certificate of Independent Price Determination. This solicitation provision requires an offeror to certify that the prices in their offer have been arrived at independently, have not been or will not be knowingly disclosed, and have not been submitted for the purpose of restricting competition. This clause is used to ensure that Government contracts are not awarded to firms violating antitrust laws.

• 52.203-7, Anti-Kickback Procedures. This contract clause requires contractors to report in writing to the inspector general of the contracting agency, the head of the contracting agency if the agency does not have an inspector general, or the Attorney General possible violations of 41 U.S.C. Chapter 87, Kickbacks, and to notify the contracting officer when monies are withheld from sums owed a subcontractor under the prime contract when the contracting officer has directed the prime contractor to do so to offset the amount of a kickback. The information reported by contractors will be used by the Federal agency to investigate potential violations.

• 52.203-13, Contractor Code of Business Ethics and Conduct. This contract clause requires contractors and subcontractors to report to the agency Office of the Inspector General, whenever it has credible evidence that a principal, employee, agent, or subcontractor of the contractor has committed a violation of Federal criminal law involving fraud, conflict of interest, bribery, or gratuity violations found in Title 18 U.S.C., or a violation of the Civil False Claims Act (31 U.S.C. 3729-3733). The information will be used by the Federal agency to investigate suspected violations.

• 52.203-16, Preventing Personal Conflicts of Interest. This contract clause requires contractors and subcontractors to obtain and maintain from employees assigned to a task under a contract, a disclosure of interests that might be affected by the task to which the employee has been assigned. Contractors must report to any personal conflict of interest violation by a covered employee and the proposed actions to be taken. In exceptional circumstances, the contractor may request the head of the contracting activity approve a plan to mitigate the personal conflict of interest or waive the requirement to prevent personal conflicts of interest. This information is used by the contractor and the contracting officer to identify and mitigate personal conflicts of interest.

C. Annual Burden

Respondents: 10,275.

Recordkeepers: 8,391.

Total Annual Responses: 342,019.

Total Burden Hours: 627,162 (123,702 reporting hours + 503,460 recordkeeping hours).

D. Public Comment

A 60-day notice was published in the Federal Register at 85 FR 75325, on November 25, 2020. No comments were received.

Obtaining Copies: Requesters may obtain a copy of the information collection documents from the GSA Regulatory Secretariat Division by calling 202-501-4755 or emailing GSARegSec@gsa.gov. Please cite OMB Control No. 9000-0018, Federal Acquisition Regulation Part 3: Improper Business Practices and Personal Conflicts of Interest.

Janet Fry,
Director, Federal Acquisition Policy Division, Office of Governmentwide Acquisition Policy, Office of Acquisition Policy, Office of Governmentwide Policy.

[FR Doc. 2021-02401 Filed 2-4-21; 8:45 am]

BILLING CODE 6820-EP-P